MERIT SYSTEMS PROTECTION BOARD

Sunshine Act Meeting

AGENCY: Merit Systems Protection Board.

ACTION: Notice.

SUMMARY: Notice is hereby given of the scheduling of a Sunshine Act Meeting on the proposed 2011-2013 research agenda of the Merit Systems Protection Board's Office of Policy and Evaluation.

DATE AND TIME: Wednesday, December 8, 2010, at 10 a.m.

PLACE: Surface Transportation Board, First Floor Hearing Room, 395 E Street, SW., Washington, DC 20423.

STATUS: Open.

FOR FUTHER INFORMATION CONTACT: Laura Shugrue, Deputy Director, Office of Policy and Evaluation, Merit Systems Protection Board, 1615 M Street, NW., Washington, DC 20419; (202) 653-6772, ext. 1350; research.agenda@mspb.gov.

SUPPLEMENTARY INFORMATION: Pursuant to the Government in the Sunshine Act (5 U.S.C. 552(b)), and in accordance with the Merit Systems Protection Board's (“MSPB” or “Board”) regulations at 5 CFR 1206.1-12, the MSPB will hold a meeting on the research activities proposed for inclusion in the next three-year cycle of studies to be conducted by MSPB's Office of Policy and Evaluation (“OPE”). The MSPB has statutory responsibility to conduct objective, non-partisan studies that assess and evaluate Federal merit systems policies, operations, and practices. See 5 U.S.C. 1204(a)(3).

Earlier this year, MSPB stakeholders were invited to provide feedback and ideas for the research agenda. During this meeting, OPE staff will present the 29 proposed study topics to the Board Members. In addition, several key stakeholders are invited to present their views on the research topics at the meeting. A recording of the meeting will be made available on the MSPB's Web site.

The research topics are listed below, organized into six broad areas of related research. Further description of these topics is available on the MSPB's Web site at http://www.mspb.gov. The public can provide comments on the proposed research agenda by e-mailing research.agenda@mspb.gov. Comments will be accepted through December 31, 2010.

Hiring and Assessment

1. Recruiting and Hiring with USAJOBS

2. The First Hurdle: Winnowing the Applicant Pool

3. Self-Assessment of Performance and Qualifications

4. Personality Assessments and Federal Hiring

5. How Do Selecting Officials Make Hiring Decisions?

6. Choosing Between Internal and External Hiring

Supervision and Leadership

7. Recruiting for the Senior Executive Service

8. Supervisor Selection: Assessment Tools and Selection

9. Supervisors' Perceptions of Their Role, Skills, Motivation and Training Needs

10. Appropriate Use of Supervisory Authority

11. Dual Career Tracks for Supervisors and Technical Specialists

12. Leadership in Public Service: Politics and Policy

Defending Merit

13. Merit System Principles Education

14. Clean Records and the Public Interest

15. Treatment of Temporary Employees

16. Employment of Persons with Disabilities in the Federal Government

17. Workplace Violence

18. Focus on Veterans' Hiring

Focus on the Office of Personnel Management

19. Hiring Reform

20. OPM Oversight in a Decentralized Civil Service

21. Issues with the Federal Classification System

22. Can We Learn More From Demonstration Projects?

Performance Management

23. What Is—and How Do You Measure—Job Performance?

24. The Extra Mile: Employee Engagement and High Performance

25. Awards Programs

Building an Effective Workforce

26. The Human Resources Workforce: Rising to the Challenge?

27. Building Effective Partnerships Between Management and Unions

28. Technology in the Workplace: What Do We Expect of Employees?

29. Challenges of the Aging Workforce

The public is welcome to attend this meeting for the sole purpose of observation. Persons with disabilities who require reasonable accommodation to attend this event should direct the request to the MSPB Director of Equal Employment Opportunity at (202) 653-6772, ext. 1194 or V/TDD 1-800-877-8339 (Federal Relay Service). All such requests should be made at least one week in advance of the meeting.

William D. Spencer,
Clerk of the Board.

[FR Doc. 2010-29888 Filed 11-23-10; 11:15 am]

BILLING CODE 7400-01-P